GENERAL SERVICES ADMINISTRATION

[Notice-MA-2020-06; Docket No. 2020-0002; Sequence No.18]

Cancellation of FMR Bulletins B-37 and B-39

AGENCY: Office of Government-Wide Policy (OGP), General Services Administration (GSA).

ACTION: Notice of cancellation of FMR Bulletins B-37 and B-39.

SUMMARY: This notice announces the cancellation of GSA Federal Management Regulation (FMR) Bulletins B-37 and B-39.

DATES: Applicability Date: July 13, 2020

FOR FURTHER INFORMATION CONTACT: For clarification of content, contact Mr. William Garrett, Director, Personal Property Management Policy, Office of Government-Wide Policy, Office of Asset and Transportation Management, at 202-368-8163, or by email at william.garrett@gsa.gov. Please cite Notice of Cancellation of FMR Bulletins B-37 and B-39.

SUPPLEMENTARY INFORMATION: Background: In 2013, GSA issued FMR Bulletin B-37: Federal Print Management Practices. In 2014, GSA issued FMR Bulletin B-39: Federal Sustainable Print Management Policy Template. As Executive Order (E.O.) 13514 “Federal Leadership in Environmental, Energy, and Economic Performance,” that precipitated this guidance, has been revoked, GSA is posting this Federal Register Notice, which cancels Bulletins B-37 and B-39.

Jessica Salmoiraghi,
Associate Administrator, Office of Government-wide Policy.

[FR Doc. 2020-14999 Filed 7-10-20; 8:45 am]

BILLING CODE 6820-14-P